DEPARTMENT OF STATE

[Public Notice 7763]

U.S. Department of State Advisory Committee on Private International Law (ACPIL): Notice of Public Meeting on (1) Jurisdiction and the Recognition and Enforcement of Judgments, and (2) Choice of Law in International Commercial Contracts

The Office of the Assistant Legal Adviser for Private International Law, Department of State, hereby gives notice of a public meeting to discuss two topics on the agenda of the upcoming General Affairs and Policy Council of the Hague Conference on Private International Law. The public meeting will take place on Tuesday, April 3, 2012 from 10 a.m. to 2 p.m. at the main State Department building (Harry S Truman Building). This is not a meeting of the full Advisory Committee.

Jurisdiction and the Recognition and Enforcement of Judgments: An ACPIL meeting on this topic was held on March 23, 2011. At the subsequent General Affairs and Policy Council held in April 2011, it was agreed to establish a small experts' group “to explore the background of the Judgments Project and recent developments with the aim to assess the possible merits of resuming the Judgments Project.” That experts' group will hold its initial meeting on April 12-14, 2012 in The Hague, and the results of that meeting will be reported to the General Affairs and Policy Council, which meets April 17-20.

Choice of law in international commercial contracts: A working group composed of experts from various countries has been meeting over the past couple of years to develop non-binding principles relevant to the choice of law in international commercial contracts. The draft principles prepared by that working group will be considered at the General Affairs and Policy Council.

The purpose of the public meeting is to obtain the views of concerned stakeholders on these topics in advance of the upcoming Hague Conference meetings.

Prior to the Study Group meeting, we will send out—to all those who indicate that they intend to attend the meeting or participate by telephone, or who otherwise wish to comment—the documents prepared by the Permanent Bureau of the Hague Conference on each of these topics, which will include the draft principles on choice of law. Those who cannot attend but wish to comment are welcome to do so by email to Keith Loken at lokenk@state.gov.

Time and Place: The meeting will take place in Room 1205, Harry S Truman Building, 2201 C Street, NW., Washington, DC 20520. Participants should plan to arrive by 9:30 p.m. for visitor screening. If you are unable to attend the public meeting and would like to participate from a remote location, teleconferencing will be available.

Public Participation: This meeting is open to the public, subject to the capacity of the meeting room. Access to the building is strictly controlled. For pre-clearance purposes, those planning to attend should phone Tricia Smeltzer (202-776-8423) or Niesha Toms (202-776-8420) and provide your full name, address, date of birth, citizenship, driver's license or passport number, and email address. This will greatly facilitate entry into the building. Participants will be met inside the diplomatic entrance at C Street and, once badges are obtained, escorted to the meeting room. A member of the public needing reasonable accommodation should advise Ms. Smeltzer or Ms. Toms not later than March 27. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

Dated: February 22, 2012.
Keith Loken,
Assistant Legal Adviser, Private International Law, Department of State.

[FR Doc. 2012-4854 Filed 2-28-12; 8:45 am]

BILLING CODE 4710-08-P